OFFICE OF PERSONNEL MANAGEMENT

Chief Human Capital Officers (CHCO) Council; Virtual Public Meeting

AGENCY: Office of Personnel Management.

ACTION: Notice of meeting.

SUMMARY: The Chief Human Capital Officers (CHCO) Council plans to meet on Tuesday, December 12, 2023. The meeting will start at 9:00 a.m. EST and will be held on Zoom.

FOR FURTHER INFORMATION CONTACT: Bridget Patterson, Administrative Support Specialist, CHCOCouncil@opm.gov, 202-936-0321.

SUPPLEMENTARY INFORMATION: The purpose of the meeting is for the CHCO Council to host their annual public meeting per Public Law 107-296.

The CHCO Council is the principal interagency forum to advise and coordinate the activities of the agencies of its members on such matters as modernization of human resources systems, improved quality of human resources information and legislation affecting human resources operations and organizations.

Persons desiring to attend this public meeting of the Chief Human Capital Officers Council should contact OPM at least 5 business days in advance of the meeting date at the email address shown below. Note: If you require an accommodation, please contact chcocouncil@opm.gov no later than December 5, 2023.

Office of Personnel Management.
Kayyonne Marston,
Federal Register Liaison.

[FR Doc. 2023-24596 Filed 11-6-23; 8:45 am]

BILLING CODE 6325-46-P